DEPARTMENT OF COMMERCE

Foreign-Trade Zones Board

[Order No. 1488]

Approval for Expansion of Subzone 149C, ConocoPhillips Company(Oil Refinery), Sweeny, Texas

Pursuant to its authority under the Foreign-Trade Zones Act of June 18, 1934, as amended (19 U.S.C. 81a-81u), the Foreign-Trade Zones Board (the Board) adopts the following Order:

Whereas, the Brazos River Harbor Navigation District (Port Freeport), grantee of FTZ 149, has requested authority on behalf of ConocoPhillips Company (COP), to expand the scope of manufacturing activity conducted under zone procedures within Subzone 149C at the COP refinery in Sweeny, Texas (FTZ Docket 9-2006, filed 3/6/2006);

Whereas, notice inviting public comment has been given in the Federal Register (71 FR 13077, 3/14/2006);

Whereas, the Board adopts the findings and recommendations of the examiner's report, and finds that the requirements of the FTZ Act and Board's regulations would be satisfied, and that approval of the application would be in the public interest if approval is subject to the conditions listed below;

Now, therefore, the Board hereby orders:

The application to expand the scope of manufacturing authority under zone procedures within Subzone 149C, is approved, subject to the FTZ Act and the Board's regulations, including § 400.28, and subject to the following conditions:

1. Foreign status (19 CFR § 146.41, 146.42) products consumed as fuel for the petrochemical complex shall be subject to the applicable duty rate.

2. Privileged foreign status (19 CFR § 146.41) shall be elected on all foreign merchandise admitted to the subzone, except that non-privileged foreign (NPF) status (19 CFR § 146.42) may be elected on refinery inputs covered under HTSUS Subheadings #2709.00.10, #2709.00.20, #2710.11.25, #2710.11.45, #2710.19.05, #2710.19.10, #2710.19.45, #2710.91.00, #2710.99.05, #2710.99.10, #2710.99.16, #2710.99.21 and #2710.99.45 which are used in the production of:

-petrochemical feedstocks (examiners report, Appendix “C”);

-products for export;

-and, products eligible for entry under HTSUS #num; 9808.00.30 and#num; 9808.00.40 (U.S. Government purchases).

Signed at Washington, DC, this 9th day of November 2006.

David M. Spooner,
Assistant Secretary of Commerce for Import Administration, Alternate Chairman, Foreign-Trade Zones Board.
Attest:
Pierre V. Duy,
Acting Executive Secretary.

[FR Doc. E6-19663 Filed 11-20-06; 8:45 am]

BILLING CODE 3510-DS-S